DEPARTMENT OF COMMERCE

National Oceanic and Atmospheric Administration Science Advisory Board

AGENCY: National Oceanic and Atmospheric Administration (NOAA), Department of Commerce (DOC).

ACTION: Notice of public meeting.

SUMMARY: This notice sets forth the schedule and proposed agenda for a meeting of the Science Advisory Board (SAB). The members will discuss issues outlined in the section on Matters to be considered.

DATES: The meeting date is April 29, 2025. The meeting is scheduled on April 29, 2025 from 10:00 a.m. to 5:00 p.m. Eastern Daylight Time (EDT). The time and the agenda topics described below are subject to change. For the latest agenda please refer to the SAB website: https://sab.noaa.gov/current-meetings/.

ADDRESSES: This meeting will be held virtually. The link for the webinar registration will be posted, when available, on the SAB website: https://sab.noaa.gov/current-meetings/.

FOR FURTHER INFORMATION CONTACT: Casey Stewart, Executive Director, SSMC3, Room 11360, 1315 East-West Hwy., Silver Spring, MD 20910; Phone Number: 240-381-0833; Email: noaa.scienceadvisoryboard@noaa.gov; or visit the SAB website at https://sab.noaa.gov/current-meetings/.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The April 29, 2025 meeting will be open to public participation with a 15-minute public comment period at 4:45 p.m. EDT on April 29, 2025. The SAB expects that public statements presented at its meetings will not be repetitive of previously submitted verbal or written statements. In general, each individual or group making a verbal presentation will be limited to a total time of three minutes. Written comments for the April 29, 2025 meeting should be received by the SAB Executive Director's Office (noaa.scienceadvisoryboard@noaa.gov) by April 22, 2025 to provide sufficient time for SAB review. Written comments received by the SAB Executive Director after these dates will be distributed to the SAB, but may not be reviewed prior to the meeting date.

Special Accommodations: Requests for special accommodations may be directed to the Executive Director no later than 12:00 p.m. Eastern Standard Time (EST) on April 14, 2025.

Matters To Be Considered: The meeting on April 29, 2025 will include, but is not limited to, the following topics: (1) the SAB Consent Calendar, (2) Working Group Updates, (3) updates from NOAA leadership and (4) discussion of current and/or future matters regarding the Board's work plan. Meeting materials, including work products, will also be available on the SAB website: https://sab.noaa.gov/currentmeetings/current-meeting-documents/.

David Holst,
Chief Financial Officer/Administrative Officer, Office of Oceanic and Atmospheric Research, National Oceanic and Atmospheric Administration.

[FR Doc. 2025-06059 Filed 4-8-25; 8:45 am]

BILLING CODE 3510-KD-P